DEPARTMENT OF THE INTERIOR

Bureau of Land Management

[NM-020-1430-NJ]

Notice of Temporary Closure to Public Entry and Use of Lands in the Vicinity of La Bolsa, Rio Arriba County, NM

AGENCY: Bureau of Land Management, Interior.

ACTION: Notice of closure.

SUMMARY: Notice is hereby given that the following described public lands in the vicinity of La Bolsa, New Mexico, will be closed to all entry and use, in reference to activities to comply with a Consent Judgment entered in case #03-CIV-1027 in U.S. District Court, for the District of New Mexico. The closure is needed in order to preserve the health and safety of the public by prohibiting their access to the area.

DATES: This emergency closure is effective September 7, 2004.

FOR FURTHER INFORMATION CONTACT: Sam DesGeorges, Field Office Manager, Bureau of Land Management, Taos Field Office, 226 Cruz Alta Road, Taos, New Mexico 87571, or call (505) 758-8851.

SUPPLEMENTARY INFORMATION: Exemptions: Persons who are exempt from this closure include any Federal, State, or local officer or employee in the scope of their duties, members of any organized rescue or fire-fighting force in performance of an official duty, and any person authorized in writing by the Bureau of Land Management. The land is restricted for all other uses.

The closure is needed in order to preserve the health and safety of the public by prohibiting their access to the area.

This closure will remain in effect for a period of 60 days, beginning on September 7, 2004. The Bureau of Land Management reserves the right to close this area for additional period(s) before or after the indicated dates, as the Bureau of Land Management may deem necessary.

Closure signs will be posted at main entry points and trails in the area indicating the area closed and explaining the reason for the closure. Maps of the closure area and more detailed information are on file at the Taos Field Office. This order affects public lands in Rio Arriba County, New Mexico, thus described:

New Mexico Principal Meridian

T. 23 N., R. 10 E.,

Sec. 20: lot 13—south of State Road 68 only, lot 14, SE¼SE¼, SW¼;

Sec. 21: lots 6-8, S½.

This emergency closure is being established and administered by the Bureau of Land Management. Authority for this action is provided in regulations 43 CFR Subpart 8364—Closures and Restrictions, 8364.1.

Dated: August 20, 2004.
Linda S.C. Rundell,
State Director.

[FR Doc. 04-20484 Filed 9-7-04; 11:17 am]

BILLING CODE 4310-FB-P